DEPARTMENT OF COMMERCE

National Oceanic and Atmospheric Administration

[RTID 0648-XC135]

Western Pacific Fishery Management Council; Public Meetings

AGENCY: National Marine Fisheries Service (NMFS), National Oceanic and Atmospheric Administration (NOAA), Commerce.

ACTION: Notice of a public meeting.

SUMMARY: The Western Pacific Fishery Management Council (Council) and NMFS will convene a Western Pacific Stock Assessment Review (WPSAR) of Level 1 and Level 2 Essential Fish Habitat (EFH) Models for the Main Hawaiian Islands gray jobfish, or uku (Aprion virescens).

DATES: The WPSAR meeting will be held July 12, 2022 through July 14, 2022. For specific times and agendas, see SUPPLEMENTARY INFORMATION.

ADDRESSES: Meeting address: In person attendance for WPSAR Panelists and participants will be hosted at the Council Office Conference Room, Western Pacific Fishery Management Council, 1164 Bishop St., Suite 1400, Honolulu, HI 96813.

The meeting will be held in a hybrid format with in-person and remote participation (Webex) options available for WPSAR Panelists and participants, with public attendance limited to web conference via Webex. Specific information on joining the meeting, connecting to the web conference and providing oral public comments will be posted on the Council website at www.wpcouncil.org. For assistance with the web conference connection, contact the Council office at (808) 522-8220.

FOR FURTHER INFORMATION CONTACT: Kitty M. Simonds, Executive Director, Western Pacific Fishery Management Council; telephone: (808) 522-8220.

SUPPLEMENTARY INFORMATION: The WPSAR meeting will be held on July 12-14, 2022, and run each day from 9 a.m. to 5 p.m. Hawaii Standard Time (HST). Public comment periods will be provided in the agenda. The order in which agenda items are addressed may change. The meetings will run as late as necessary to complete scheduled business.

Agenda for the Western Pacific Stock Assessment Review Meeting

Day 1—Tuesday, July 12, 2022, 9 a.m. to 5 p.m. HST

1. Welcome and Introductions

2. Objectives and Terms of Reference

3. Overview: Essential Fish Habitat (EFH) and Habitat Areas of Particular Concern (HAPC)

4. Background Information on MHI Uku

A. Main Hawaii Islands (MHI) Fisheries & Data Reporting of Uku

B. Life History and Biology of MHI Uku

C. Stock Assessment and Status of MHI Uku

5. Fishery Independent Data Sources for MHI Uku

6. Model-based EFH Definitions for the Uku (Aprion virescens) in the MHI

A. Data Sources

B. Methods

C. Results and Discussion

7. Spatiotemporal Assessment of Uku (Aprion virescens) Density in Shallow MHI Waters, 2010-19

A. Data Sources

B. Methods

C. Results and Discussion

8. Public Comment

9. WPSAR Review Panel Review and Deliberations (closed to the public)

Day 2—Wednesday, July 13, 2022, 9 a.m. to 5 p.m. HST

10. WPSAR Review Panel Discussion with Presenters (morning)

11. WPSAR Review Panel Discussions (closed, afternoon)

Day 3—Thursday, July 14, 2022, 9 a.m. to 5 p.m. HST

12. Continue WPSAR Panel Discussions (closed, morning)

13. WPSAR Panel Report on Uku EFH Review Recommendations (afternoon)

14. Adjourn

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: June 23, 2022.
Tracey L. Thompson,
Acting Deputy Director, Office of Sustainable Fisheries, National Marine Fisheries Service.

[FR Doc. 2022-13794 Filed 6-27-22; 8:45 am]

BILLING CODE 3510-22-P